DEPARTMENT OF AGRICULTURE

Foreign Agricultural Service

Trade Adjustment Assistance for Farmers

AGENCY: Foreign Agricultural Service, USDA.

ACTION: Notice.

The Administrator, Foreign Agricultural Service (FAS), today accepted and began a review of a petition for trade adjustment assistance under the FY 2011 program, filed by the Massachusetts Lobstermen's Association on behalf of American lobster (Homarus americanus) fishermen who catch and market their lobster in Massachusetts. The FAS Administrator will determine within 40 days whether or not increasing imports of American lobster contributed importantly to a greater than 15-percent decrease in the production value of lobster compared to the average of the three preceding marketing years. If a determination is affirmative, fishermen who land and market American lobster in Massachusetts will be eligible to apply to the Farm Service Agency for free technical assistance and cash benefits.

FOR FURTHER INFORMATION CONTACT: Trade Adjustment Assistance for Farmers Program Staff, Office of Trade Programs, USDA, at (202) 720-0638 or (202) 690-0633, or by e-mail at: tradeadjustment@fas.usda.gov; or visit the TAA for Farmers' Web site: http://www.fas.usda.gov/itp/taa.

Dated: July 22, 2010.
John D. Brewer,
Administrator, Foreign Agricultural Service.

[FR Doc. 2010-18850 Filed 7-30-10; 8:45 am]

BILLING CODE 3410-10-P